EQUAL EMPLOYMENT OPPORTUNITY COMMISSION

Agency Information Collection Activities

AGENCY: Equal Employment Opportunity Commission.

ACTION: Notice of information collection—extension without change: Demographic Information on Applicants for Federal employment.

SUMMARY: In accordance with the Paperwork Reduction Act, the Equal Employment Opportunity Commission (EEOC or Commission) announces that it intends to submit to the Office of Management and Budget (OMB) a request for a three-year extension of a Commission form (Demographic Information on Applicants OMB No. 3046-0046).

DATES: Written comments on this notice must be submitted on or before May 8, 2023.

ADDRESSES: You may submit comments by any of the following methods—please use only one method:

Federal eRulemaking Portal: Go to https://www.regulations.gov. Follow the instructions for submitting comments.

Fax: (202) 663-4114. Only comments of six or fewer pages will be accepted via FAX transmittal to assure access to the equipment. Receipt of FAX transmittals will not be acknowledged, except that the sender may request confirmation of receipt by calling the Executive Secretariat staff at (202) 921-2815 (voice), 1-800-669-6820 (TTY), or 1-844-234-5122 (ASL video phone).

Mail: Comments may be submitted by mail to Raymond Windmiller, Executive Officer, Executive Secretariat, Equal Employment Opportunity Commission, 131 M Street NE, Washington, DC 20507.

Hand Delivery/Courier: Raymond Windmiller, Executive Officer, Executive Secretariat, Equal Employment Opportunity Commission, 131 M Street NE, Washington, DC 20507.

Instructions: All comments received will be posted without change to http://www.regulations.gov, including any personal information provided. However, the Commission reserves the right to refrain from posting libelous or otherwise inappropriate comments, including those that contain obscene, indecent, or profane language; that contain threats or defamatory statements; that contain hate speech based upon race, color, sex, national origin, age, religion, disability, or genetic information; or that promote or endorse services or products.

Docket: Copies of comments received are also available for review at the Commission's library. Copies of comments received in response to this notice will be made available for viewing by appointment only at 131 M Street NE, Suite 4NW08R, Washington, DC 20507. Members of the public may schedule an appointment by sending an email to OEDA@eeoc.gov.

FOR FURTHER INFORMATION CONTACT: Wendy Doernberg, Federal Sector Programs, Office of Federal Operations, at (202) 921-2948 (voice) or wendy.doernberg@eeoc.gov. Requests for this notice in an alternative format should be made to the Office of Communications and Legislative Affairs at (202) 921-3191 (voice), (800) 669-6820 (TTY), or (844) 234-5122 (ASL Video Phone).

SUPPLEMENTARY INFORMATION: The EEOC's Demographic Information on Applicants (OMB No. 3046-0046) is intended for use by Federal agencies in gathering data on the race, ethnicity, sex, and disability status of job applicants. This form is used by the EEOC and other agencies to gauge progress and trends over time with respect to equal employment opportunity goals.

Pursuant to the Paperwork Reduction Act of 1995, 44 U.S.C. chapter 35, and OMB regulation 5 CFR 1320.8(d)(1), the Commission solicits public comment to enable it to:

(1) Evaluate whether the proposed data collection tool will have practical utility by enabling a Federal agency to determine whether recruitment activities are effectively reaching all segments of the relevant labor pool in compliance with the laws enforced by the Commission and whether the agency's selection procedures allow all applicants to compete on a level playing field regardless of race, national origin, sex, or disability status;

(2) Evaluate the accuracy of the agency's estimate of the burden of the proposed collection of information, including the validity of the methodology and assumptions used;

(3) Enhance the quality, utility, and clarity of the information to be collected; and

(4) Minimize the burden of the collection of information on applicants for Federal employment who choose to respond, including through the use of appropriate automated, electronic, mechanical, or other technological collection techniques or other forms of information technology, e.g., permitting electronic submission of responses.

Overview of This Information Collection

Collection Title: Demographic Information on Applicants.

OMB Control No.: 3046-0046.

Description of Affected Public: Individuals submitting applications for federal employment.¹

¹ Each agency is responsible for its own burden estimates.

Number of Annual Responses: 9,092.

Estimated Time per Response: 3 minutes.

Total Annual Burden Hours (EEOC only): 455.²

² This total is calculated as follows: 9,092 annual responses from EEOC applicants × 3 minutes per response = 27,276 minutes. 27,276/60 = 455 hours each year and approximately 1,364 hours for the three-year period.

Annual Federal Cost: None.

Abstract: Under section 717 of title VII and 501 of the Rehabilitation Act, the Commission is charged with reviewing and approving Federal agencies' plans to affirmatively prevent potential discrimination before it occurs. Pursuant to such oversight responsibilities, the Commission has established systems to monitor compliance with title VII and the Rehabilitation Act by requiring federal agencies to evaluate their employment practices through the collection and analysis of data on the race, national origin, sex, and disability status of applicants for both permanent and temporary employment.

While several federal agencies (or components of such agencies) have obtained OMB approval for the use of forms collecting data on the race, national origin, sex, and disability status of applicants, it is not an efficient use of government resources for each Federal agency to separately seek OMB approval. Accordingly, to avoid unnecessary duplication of effort and a proliferation of forms, the EEOC seeks approval of a form to be used by federal agencies.

Response by applicants is completely optional. The information obtained will be provided in the form of aggregate data and used by federal agencies only for evaluating whether an agency's recruitment activities are effectively reaching all segments of the relevant labor pool and whether the agency's selection procedures allow all applicants to compete on a level-playing field regardless of race, national origin, sex, or disability status. The voluntary responses provided by applicants are treated in a highly confidential manner and play no part in the selection of the individual for employment. The information is not provided to any panel rating the applications, to selecting officials, to anyone who can affect the application or to the public. Rather, the information is used in summary form to determine trends over many selections within a given occupational or organization area. No information from the form is entered into an official personnel file.

The present Notice is for a three-year extension without change to the Commission's existing form for collecting voluntary demographic information from federal applicants. The Commission remains engaged in interagency discussions about equitable data collection, including (a) the Federal Interagency Technical Working Group on Race and Ethnicity Standards convened by OMB; and (b) the Subcommittee on Sexual Orientation, Gender Identity, and Variations in Sex Characteristics convened by the National Science and Technology Council's Subcommittee on Equitable Data. As the work of those groups continues, the Commission may seek authorization from OMB, pursuant to the Paperwork Reduction Act, to amend the race, ethnicity, and/or sex questions on the Demographic Information on Applicants form.

Burden Statement: Because of the predominant use of online application systems, which require only pointing and clicking on the selected responses, and because the form requests only seven questions regarding basic information, the EEOC estimates that an applicant can complete the form in approximately 3 minutes or less. Based on past experience, we expect that 9,092 applicants will choose to complete the form.

Upon approval of this common form by OMB, federal agencies may request OMB approval to use this common form without having to publish notices and request public comments for 60 and 30 days. Each agency must account for the burden associated with their use of the common form.³

³ “Frequently Asked Questions about ROCIS's New Common Forms Module” provides further information about common forms and can be found by searching www.whitehouse.gov.

Dated: March 2, 2023.
For the Commission.
Charlotte A. Burrows,
Chair, Equal Employment Opportunity Commission.

BILLING CODE 6570-01-P

[FR Doc. 2023-04740 Filed 3-7-23; 8:45 am]

BILLING CODE 6570-01-C